DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Division of State Programs—Management Reporting Tool (DSP-MRT) (OMB No. 0930-0354)—Revision

The Substance Abuse and Mental Health Services Administration's (SAMHSA) Center for Substance Abuse Prevention (CSAP) aims to monitor several substance abuse prevention programs through the DSP-MRT, which reports data using the Strategic Prevention Framework (SPF). Programs monitored through the DSP-MRT include: SPF-Partnerships for Success, SPF- Prescription Drugs, Prescription Drug Overdose, and First Responder-Comprehensive Addiction and Recovery Act. This request for data collection includes a revision from a previously approved OMB instrument.

Monitoring data using the SPF model will allow SAMHSA's project officers to systematically collect data to monitor their grant program. In addition to assessing activities related to the SPF steps, the performance monitoring instruments covered in this statement collect data to assess the following grantee required specific performance measures:

• Number of training and technical assistance activities per funded community provided by the grantee to support communities

• Reach of training and technical assistance activities (numbers served) provided by the grantee

• Percentage of subrecipient communities that submit data to the grantee data system

• Number of subrecipient communities that improved on one or more targeted National Outcome Measures

• Number of grantees who integrate Prescription Drug Monitoring Program (PDMP) data into their program needs assessment

• Number of naloxone toolkits distributed

Changes to this package include the following:

• Inclusion of intervention names in the standard tool

• Inclusion of community outcomes reporting

• Inclusion of questions on training services requested and referrals/receiving treatment services in the PDO/FR-CARA supplemental section

Annualized Data Collection Burden
Instrument | Number of respondents | Responses per respondent | Total number of responses | Hours per response | Total burden hours
Standard DSP Monitoring Tool | 117 | 4 | 468 | 3 | 1404
Section A: Rx | 25 | 2 | 63 | 1 | 42
Section B: PDO/FR CARA | 23 | 4 | 100 | 1 | 100
Section C: PFS | 71 | 1 | 71 | 3 | 213
FY2020 Total | 117 |  | 702 |  | 1,759

Written comments and recommendations concerning the proposed information collection should be sent by August 22, 2018 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-15677 Filed 7-20-18; 8:45 am]

BILLING CODE 4162-20-P